DEPARTMENT OF HOUSING AND URBAN DEVELOPMENT

[Docket No. FR-5477-N-42]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy, Arlington, VA 22202: (571) 256-8145; GSA: Mr. John E.B. Smith, General Services Administration, Office of Real Property Utilization and Disposal, 1800 F Street NW., Room 7040 Washington, DC 20405; (202) 501-0084; Interior: Mr. Michael Wright, Acquisition & Property Management, Department of the Interior, 1801 Pennsylvania Ave., NW., 4th Floor, Washington, DC 20006: (202) 254-5522; Navy: Mr. Steve Matteo, Department of the Navy, Asset Management Division, Naval Facilities Engineering Command, Washington Navy Yard, 1330 Patterson Ave., SW., Suite 1000, Washington, DC 20374; (202) 685-9426; (These are not toll-free numbers).

Dated: October 13, 2011.
Mark R. Johnston,
Deputy Assistant Secretary for Special Needs.

TITLE V, FEDERAL SURPLUS PROPERTY PROGRAM FEDERAL REGISTER REPORT FOR 10/21/2011

Suitable/Available Properties

Building

Maine

Columbia Falls Radar Site

Tibbetstown Road

Columbia Falls ME 04623

Landholding Agency: GSA

Property Number: 54201140001

Status: Excess

GSA Number: 1-D-ME-0687

Directions: Buildings 1, 2, 3, and 4

Comments: Four bldgs. totaling 20,375 sq. ft.; each one-story; current use: varies among properties

Michigan

Beaver Island High Level Site

South End Road

Beaver Island MI 49782

Landholding Agency: GSA

Property Number: 54201140002

Status: Excess

GSA Number: 1-X-MI-664B

Comments: 89 sq. ft; current use: storage; non-friable asbestos and lead base paint present; currently under license to the CCE Central Dispatch Authority

Missouri

FAA NDB Facility

N. Farm Rd. 95

Willard MO

Landholding Agency: GSA

Property Number: 54201120012

Status: Surplus

GSA Number: 7-U-MO-0689

Comments: Correction: this property is now “unavailable” it was published as “available” in Oct. 7 Federal Register (48 sq. ft., recent use: electrical equipment storage, chain-link fence surrounds property)

Suitable/Unavailable Properties

Land

New Mexico

FAA RML Facility—West Mesa

Lost Horizon Drive

Albuquerque NM

Landholding Agency: GSA

Property Number: 54201120013

Status: Surplus

GSA Number: 7-U-NM-0486-6

Comments: Correction: This property was published as “available” in the Oct. 7 Federal Register; it is now “unavailable”(0.3462 acres, recent use: FAA RML Facility, chain- link fence surrounds property)

Unsuitable Properties

Building

California

Death Valley Nat'l Park

SPW Powerhouse, No. 2

Death Valley CA 92328

Landholding Agency: Interior

Property Number: 61201140001

Status: Underutilized

Reasons: Extensive deterioration

Idaho

2 Bldgs.

Dam Camp House

Boise ID 83716

Landholding Agency: Interior

Property Number: 61201140003

Status: Unutilized

Directions: 0004-0201-00B and 0004-0202-00B

Comments: both properties has asbestos present

Reasons: Contamination

Bldgs. 0004-0203

Dam Camp Storage

Boise ID 83716

Landholding Agency: Interior

Property Number: 61201140004

Status: Unutilized

Reasons: Floodway, Extensive deterioration

2 Bldgs.

Black Canyon

Parma ID

Landholding Agency: Interior

Property Number: 61201140005

Status: Unutilized

Directions: Ditchrider House and Garage

Reasons: Extensive deterioration

Bldg. 0004-0205

Dam Camp Storage

Boise ID 83716

Landholding Agency: Interior

Property Number: 61201140006

Status: Unutilized

Comments: Asbestos present

Reasons: Floodway, Contamination, Extensive deterioration

Mississippi

12 Bldgs.

Naval Air Station

Meridian MS 39309

Landholding Agency: Navy

Property Number: 77201140001

Status: Excess

Directions: 21, 151, 166, 223, 314, 350, 363, 422, 445, 467, 468, and 993

Comments: Reasons for unsuitability varies among properties

Reasons: Extensive deterioration, Within 2000 ft. of flammable or explosive material, Contamination

Oregon

2 Bldgs.

Bureau of Reclamation

Grand Nyssa OR

Landholding Agency: Interior

Property Number: 61201140002

Status: Unutilized

Directions: Ditchrider House and Garage

Reasons: Extensive deterioration

Washington

Bldgs. 00852 and 00853

Yakima Trng. Ctr.

Yakima WA 98901

Landholding Agency: Army

Property Number: 21201140001

Status: Unutilized

Reasons: Extensive deterioration

[FR Doc. 2011-26924 Filed 10-20-11; 8:45 am]

BILLING CODE 4210-67-P